DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than April 1, 2019.

Interested persons are invited to submit written comments regarding the subject matter of the investigations to the Director, Office of Trade Adjustment Assistance, at the address shown below, not later than April 1, 2019.

The petitions filed in this case are available for inspection at the Office of the Director, Office of Trade Adjustment Assistance, Employment and Training Administration, U.S. Department of Labor, Room N-5428, 200 Constitution Avenue NW, Washington, DC 20210.

Signed at Washington, DC, on March 5, 2019.
Hope D. Kinglock,
Certifying Officer, Office of Trade Adjustment Assistance.

APPENDIX

149 TAA Petitions Instituted Between 1/1/19 and 2/28/19
TA-W | Subject firm (petitioners) | Location | Date of institution | Date of petition
94434 | Crane Co. ChemPharma & Energy Pacific Valves (State/One-Stop) | Signal Hill, CA | 01/03/19 | 01/02/19
94435 | Gannett Satellite Information Network, LLC (Workers) | Greenville, SC | 01/03/19 | 01/02/19
94436 | MacKay Mitchell Envelope Company, LLC (State/One-Stop) | Portland, OR | 01/03/19 | 01/02/19
94437 | NUCAP US, Inc. (State/One-Stop) | Wolcott, CT | 01/03/19 | 01/03/19
94438 | Tangoe US, Inc. (State/One-Stop) | Parsippany, NJ | 01/03/19 | 01/02/19
94439 | Ten Oaks LLC (State/One-Stop) | Stuart, VA | 01/03/19 | 01/02/19
94440 | Wells Fargo (State/One-Stop) | West Des Moines, IA | 01/03/19 | 01/02/19
94441 | Hon Hai/Foxconn Technology Group (Company) | Plainfield, IN | 01/04/19 | 01/03/19
94442 | Swisher International, Inc. (Company) | Jacksonville, FL | 01/04/19 | 01/03/19
94443 | TMG Health (Workers) | Jessup, PA | 01/04/19 | 01/03/19
94444 | Nestle USA Inc. (Workers) | Fort Worth, TX | 01/07/19 | 01/04/19
94445 | Brownstown Battery Assembly (State/One-Stop) | Brownstown Charter Township, MI | 01/08/19 | 01/07/19
94446 | Honeywell International Inc. (State/One-Stop) | Albuquerque, NM | 01/08/19 | 01/07/19
94447 | A.R.E. Manufacturing, Inc. (State/One-Stop) | Newberg, OR | 01/09/19 | 01/08/19
94448 | GM Allison Transmissions (State/One-Stop) | White Marsh, MD | 01/09/19 | 01/08/19
94449 | Stoneridge (Company) | Canton, MA | 01/09/19 | 01/09/19
94450 | Crane ChemPharma & Energy (Company) | Montgomery, TX | 01/11/19 | 01/10/19
94451 | Xeros, Inc. (State/One-Stop) | Providence, RI | 01/11/19 | 01/09/19
94452 | Zodiac Electrical Inserts USA (State/One-Stop) | Huntington Beach, CA | 01/11/19 | 01/10/19
94453 | GY Agemni, LLC (State/One-Stop) | Salt Lake City, UT | 01/14/19 | 01/11/19
94454 | GCL Solar Materials US I, LLC (State/One-Stop) | Pasadena, TX | 01/14/19 | 01/11/19
94455 | IKEA Industry Danville LLC (State/One-Stop) | Ringgold, VA | 01/14/19 | 01/11/19
94456 | Buffalo Weaver, Inc. (Company) | Waterloo, IA | 01/15/19 | 01/14/19
94457 | GM Detroit Hamtramck Assembly Plant (State/One-Stop) | Detroit, MI | 01/15/19 | 01/15/19
94458 | IBM, Inc. (State/One-Stop) | Armonk, NY | 01/15/19 | 01/15/19
94459 | PVH Neckwear, Inc. (State/One-Stop) | Los Angeles, CA | 01/15/19 | 01/14/19
94460 | PVH Neckwear, Inc. (State/One-Stop) | Los Angeles, CA | 01/15/19 | 01/14/19
94461 | Aptos, Inc. (State/One-Stop) | Newburgh, NY | 01/16/19 | 01/15/19
94462 | Axeon Specialty Products LLC (State/One-Stop) | Paulsboro, NJ | 01/16/19 | 01/15/19
94463 | Bose Corporation (Company) | Stow, MA | 01/16/19 | 01/15/19
94464 | Harley-Davidson of New York City (State/One-Stop) | Long Island City, NY | 01/16/19 | 12/31/18
94465 | Aqua Products, Inc. (State/One-Stop) | Cedar Grove, NJ | 01/17/19 | 01/16/19
94466 | BNY Mellon (State/One-Stop) | Jersey City, NJ | 01/17/19 | 01/16/19
94467 | Kmart Distribution Center (State/One-Stop) | Warren, OH | 01/17/19 | 01/16/19
94468 | MOL (America) Inc. (State/One-Stop) | Woodbridge, NJ | 01/17/19 | 01/16/19
94469A | ShopKo (State/One-Stop) | Bellevue, NE | 01/18/19 | 01/17/19
94469B | ShopKo (State/One-Stop) | Lincoln, NE | 01/18/19 | 01/17/19
94469C | ShopKo (State/One-Stop) | Lincoln, NE | 01/18/19 | 01/17/19
94469D | ShopKo (State/One-Stop) | Lincoln, NE | 01/18/19 | 01/17/19
94469E | ShopKo (State/One-Stop) | Lincoln, NE | 01/18/19 | 01/17/19
94469F | ShopKo Hometown (State/One-Stop) | Ord, NE | 01/18/19 | 01/17/19
94469G | ShopKo Hometown (State/One-Stop) | Plattsmouth, NE | 01/18/19 | 01/17/19
94469H | ShopKo Hometown (State/One-Stop) | Kimball, NE | 01/18/19 | 01/17/19
94469 | ShopKo Stores Operating Co., LLC (State/One-Stop) | Green Bay, WI | 01/18/19 | 01/17/19
94470 | Bushwacker, Inc. (State/One-Stop) | Portland, OR | 01/22/19 | 01/18/19
94471 | Lexmark International, Inc. (Workers) | Lexington, KY | 01/22/19 | 01/21/19
94472 | MSCI (Workers) | Portland, ME | 01/22/19 | 01/22/19
94473 | Sugarfina, Inc. (State/One-Stop) | El Segundo, CA | 01/22/19 | 01/18/19
94474 | Tangoe US, Inc. (Workers) | Parsippany, NJ | 01/22/19 | 01/18/19
94475 | American Fasteners Company Limited (State/One-Stop) | Jurupa Valley, CA | 01/23/19 | 01/22/19
94476 | AXA Equitable Life Insurance Company (State/One-Stop) | Syracuse, NY | 01/23/19 | 01/22/19
94477 | East Coast Seafood LLC, doing business as Garbo Lobster (State/One-Stop) | Groton, CT | 01/23/19 | 01/22/19
94478 | Keystone Tailored Manufacturing LLC (Union) | Brooklyn, OH | 01/23/19 | 01/14/19
94479 | Renwood Acquisitions, LLC dba Heckethorn Manufacturing (Company) | Dyersburg, TN | 01/23/19 | 01/22/19
94480 | Globe Metallurgical Inc. (State/One-Stop) | Niagara Falls, NY | 01/24/19 | 01/24/19
94481 | Tenneco Automotive Operating Inc. (Workers) | Hartwell, GA | 01/24/19 | 01/23/19
94482 | Xerox Business Services (State/One-Stop) | Webster, NY | 01/24/19 | 01/23/19
94483 | Xerox Corporation (State/One-Stop) | Webster, NY | 01/24/19 | 01/23/19
94484 | Bank of the West (State/One-Stop) | San Ramon, CA | 01/25/19 | 01/24/19
94485 | Ditech Holding Corporation (State/One-Stop) | Rapid City, SD | 01/25/19 | 01/24/19
94486 | Hubbell Lenoir City, Inc. (State/One-Stop) | Palatka, FL | 01/25/19 | 01/24/19
94487 | Integrated Device Technology Inc. (IDT) (State/One-Stop) | San Jose, CA | 01/25/19 | 01/24/19
94488 | IBM Global Services (State/One-Stop) | Endicott, NY | 01/28/19 | 01/25/19
94489 | Loud Audio LLC (State/One-Stop) | Auburn, WA | 01/28/19 | 01/18/19
94490 | Medtronic Plc. (Company) | Plainfield, IN | 01/28/19 | 01/27/19
94491 | Prince Hydraulics (State/One-Stop) | Sioux City, IA | 01/28/19 | 01/25/19
94492 | R1 RCM (State/One-Stop) | Evansville, IN | 01/29/19 | 01/28/19
94493 | Conformis, Inc. (State/One-Stop) | Billerica, MA | 01/30/19 | 01/29/19
94494 | Global Safety Textiles, LLC (State/One-Stop) | South Hill, VA | 01/30/19 | 01/30/19
94495 | State Street Corporation (State/One-Stop) | Boston, MA | 01/30/19 | 01/30/19
94496 | Walmart Optical Lab, #9419 (Workers) | Fayetteville, AR | 01/30/19 | 01/29/19
94497 | American Buildings Company (State/One-Stop) | Carson City, NV | 01/31/19 | 01/30/19
94498 | R1 RCM (State/One-Stop) | Tulsa, OK | 01/31/19 | 01/30/19
94498A | R1 RCM (State/One-Stop) | Appleton, WI | 01/31/19 | 01/30/19
94499 | Dignity Health, Dominican Hospital (Workers) | Santa Cruz, CA | 02/01/19 | 01/31/19
94500 | Ferro Corporation (Company) | Washington, PA | 02/01/19 | 01/31/19
94501 | Objective Systems Integrators, Inc. (Company) | Folsom, CA | 02/01/19 | 01/31/19
94502 | AECOM Technical Services, Inc. (Company) | Austin, TX | 02/04/19 | 02/01/19
94502A | AECOM Technical Services, Inc. (Company) | Glen Allen, VA | 02/04/19 | 02/01/19
94503 | Nestle USA Inc. (Workers) | Breinigsville, PA | 02/04/19 | 02/01/19
94504 | Populus Group (Workers) | Troy, MI | 02/04/19 | 01/31/19
94505 | SQS North America, LLC (Workers) | Lexington, KY | 02/04/19 | 01/31/19
94506 | Transamerica Life Insurance Company (State/One-Stop) | Little Rock, AR | 02/04/19 | 02/01/19
94507 | Afgritech, LLC (State/One-Stop) | Watertown, NY | 02/05/19 | 02/04/19
94508 | Smith & Nephew (State/One-Stop) | Mansfield, MA | 02/05/19 | 02/05/19
94509 | Bureau of National Affairs—Bloomberg BNA (State/One-Stop) | Arlington, VA | 02/06/19 | 02/04/19
94510 | ECi Software Solutions (State/One-Stop) | San Mateo, CA | 02/06/19 | 02/04/19
94511 | FDP Virginia Inc. (State/One-Stop) | Tappahannock, VA | 02/06/19 | 02/05/19
94511A | FDP Virginia Inc. (State/One-Stop) | Tappahannock, VA | 02/06/19 | 02/05/19
94512 | Maxim Integrated Products Inc. (State/One-Stop) | Beaverton, OR | 02/06/19 | 02/05/19
94513 | R1 Revenue Cycle Management (Workers) | Austin, TX | 02/06/19 | 02/05/19
94514 | Wide Open West Illinois LLC (State/One-Stop) | Colorado Springs, CO | 02/06/19 | 02/05/19
94515 | Windstream Communications (State/One-Stop) | Little Rock, AR | 02/06/19 | 02/05/19
94516 | Burke Industries (State/One-Stop) | San Jose, CA | 02/07/19 | 02/06/19
94517 | Ferro Corporation (Company) | Cleveland, OH | 02/07/19 | 02/06/19
94518 | Sigma Design Inc. (State/One-Stop) | Vancouver, WA | 02/07/19 | 02/04/19
94519 | N & L Enterprises (State/One-Stop) | Winchester, VA | 02/07/19 | 02/06/19
94520 | Pfizer (State/One-Stop) | Rouses Point, NY | 02/07/19 | 02/06/19
94521 | Xerox Corporation (State/One-Stop) | Webster, NY | 02/07/19 | 01/23/19
94522 | Boston Scientific Corporation (Company) | Campbell, CA | 02/08/19 | 02/07/19
94523 | Dole Food Company, Information Technology Department (State/One-Stop) | Westlake, CA | 02/08/19 | 02/07/19
94524 | Full Beauty Brands (State/One-Stop) | New York, NY | 02/08/19 | 02/07/19
94525 | REO Distribution Services/REO Logistics Company (State/One-Stop) | Waynesboro, VA | 02/08/19 | 02/07/19
94526 | ABB, Inc. (State/One-Stop) | Memphis, TN | 02/11/19 | 02/08/19
94527 | Conformis, Inc. (State/One-Stop) | Wilmington, MA | 02/11/19 | 01/29/19
94528 | HSBC Technology and Services, USA (State/One-Stop) | Arlington Heights, IL | 02/11/19 | 02/08/19
94529 | LSC Communications (State/One-Stop) | Lynchburg, VA | 02/11/19 | 02/11/19
94530 | Nypro Inc Jabil (State/One-Stop) | Rochester, NY | 02/11/19 | 02/08/19
94531 | Park Ohio Products, Inc. (State/One-Stop) | Cleveland, OH | 02/11/19 | 02/08/19
94532 | Adams Publishing Group (State/One-Stop) | Coon Rapids, MN | 02/12/19 | 02/11/19
94533 | Concentrix CVG Corporation (State/One-Stop) | Watertown, NY | 02/12/19 | 02/11/19
94534 | Elavon Merchant Services (Workers) | Knoxville, TN | 02/12/19 | 02/11/19
94535 | Kimberly Clark (Company) | Neenah, WI | 02/12/19 | 02/11/19
94536 | CSC Holdings, LLC (State/One-Stop) | Bethpage, NY | 02/13/19 | 02/12/19
94537 | Source Providers, Inc. (Union) | Austintown, OH | 02/13/19 | 02/12/19
94538 | ABC-I Corporation (State/One-Stop) | Dexter, NY | 02/14/19 | 02/13/19
94539 | Jeld-Wen Inc. (State/One-Stop) | Yakima, WA | 02/14/19 | 02/13/19
94540 | Schneider Electric (State/One-Stop) | Peru, IN | 02/14/19 | 02/13/19
94541 | A.L.P. Lighting Components—Olive Branch MS Location (Company) | Olive Branch, MS | 02/15/19 | 02/12/19
94542 | Balboa Water Group, LLC (State/One-Stop) | Tustin, CA | 02/15/19 | 02/14/19
94543 | Epiq Systems Inc. (State/One-Stop) | Seattle, WA | 02/15/19 | 02/12/19
94544 | Ardagh Group (State/One-Stop) | Lincoln, IL | 02/19/19 | 02/15/19
94545 | Granges Americas, Inc. (State/One-Stop) | Newport, AR | 02/19/19 | 02/15/19
94546 | Gunlocke (State/One-Stop) | Wayland, NY | 02/19/19 | 02/15/19
94547 | IBM (Workers) | Chicago, IL | 02/19/19 | 02/15/19
94548 | Omega Engineering/Newport Electronic Inc. (State/One-Stop) | Santa Ana, CA | 02/19/19 | 02/12/19
94549 | ArcelorMittal Tailored Blanks Americas (State/One-Stop) | Pioneer, OH | 02/20/19 | 02/19/19
94550 | CA Technologies (Broadcom) (State/One-Stop) | Santa Clara, CA | 02/20/19 | 02/19/19
94551 | Philips North America (Company) | Kennesaw, GA | 02/20/19 | 02/19/19
94552 | Teamwork Athletic Apparel (State/One-Stop) | San Marcos, CA | 02/20/19 | 02/19/19
94553 | Western Digital (State/One-Stop) | Irvine, CA | 02/20/19 | 02/19/19
94554 | Jagger Brothers (State/One-Stop) | Springvale, ME | 02/21/19 | 02/20/19
94555 | MACOM Technology Solutions, Inc. (State/One-Stop) | Ithaca, NY | 02/21/19 | 02/15/19
94556 | Aleris Davenport Casting Mill (State/One-Stop) | Davenport, IA | 02/25/19 | 02/22/19
94557 | Aleris Davenport Rolling Mill (State/One-Stop) | Davenport, IA | 02/25/19 | 02/22/19
94558 | Arconic Alcoa (State/One-Stop) | Bettendorf, IA | 02/25/19 | 02/22/19
94559 | AT&T—Technology and Operations Department ATO (Workers) | Wichita, KS | 02/25/19 | 02/19/19
94560 | Copland Industries Inc. (State/One-Stop) | Burlington, NC | 02/25/19 | 02/22/19
94561 | Corry Forge (State/One-Stop) | Corry, PA | 02/25/19 | 02/22/19
94562 | Harsco Rail (Company) | Ludington, MI | 02/25/19 | 02/23/19
94563 | Pyramid Consulting, Inc. (State/One-Stop) | Alpharetta, GA | 02/26/19 | 02/25/19
94564 | R & M Sea Level LLC (Company) | Davie, FL | 02/26/19 | 02/25/19
94565 | Safran Electronics and Defense (State/One-Stop) | Grand Prairie, TX | 02/26/19 | 02/25/19
94566 | EY (Workers) | Dallas, TX | 02/27/19 | 02/26/19
94567 | GM Technical Center (State/One-Stop) | Warren, MI | 02/27/19 | 02/26/19
94568 | Xerox Corporation (Workers) | Webster, NY | 02/27/19 | 02/26/19
94569 | Atlas Tube (State/One-Stop) | Chicago, IL | 02/28/19 | 02/28/19
94570 | Matthews Aurora Funeral Solutions (Workers) | Richmond, IN | 02/28/19 | 02/28/19
94571 | Walmart Global Business Services (State/One-Stop) | Derby, KS | 02/28/19 | 02/27/19

[FR Doc. 2019-05304 Filed 3-20-19; 8:45 am]

BILLING CODE 4510-FN-P